DEPARTMENT OF HEALTH AND HUMAN SERVICES

Food and Drug Administration

[Docket No. FDA-2013-N-0001]

Science Board to the Food and Drug Administration Advisory Committee; Amendment of Notice

AGENCY: Food and Drug Administration, HHS.

ACTION: Notice.

The Food and Drug Administration (FDA) is announcing an amendment to the notice of meeting of the Science Board to the Food and Drug Administration. This meeting was announced in the Federal Register of January 30, 2013 (78 FR 6332). The amendment is being made to reflect changes in the Date and Time, Agenda, and Procedures portions of the document. There are no other changes.

FOR FURTHER INFORMATION CONTACT: Martha Monser, Office of the Chief Scientist, Food and Drug Administration, 10903 New Hampshire Ave., Bldg. 32, rm. 4286, Silver Spring, MD 20993, 301-796-4627, or FDA Advisory Committee Information Line, 1-800-741-8138 (301-443-0572 in the Washington DC area). Please call the Information Line for up-to-date information on this meeting.

SUPPLEMENTARY INFORMATION: In the Federal Register of January 30, 2013, FDA announced that a meeting of the Science Board to the Food and Drug Administration would be held on February 27, 2013.

1. On page 6332, in the third column, the Date and Time portion of the document is changed to read as follows:

Date and Time: The meeting will be held on Wednesday, February 27, 2013, from approximately 8:30 a.m. to 3:45 p.m.

2. On page 6333, in the first column, the Agenda portion of the document is changed to read as follows:

Agenda: On February 27, 2013, the Science Board will be provided with updates and/or a draft report from the Center for Devices and Radiological Health Research Review subcommittee and the Global Health subcommittee. Progress updates will be presented regarding the Global Health subcommittee and the recently established Center for Biologics Evaluation and Research Review Postmarketing Safety Review subcommittee. Overviews of genomics activities at the Centers for Food Safety and Applied Nutrition and Veterinary Medicine will be presented, along with plans for an Agencywide working group to address crosscutting genomics activities. Finally, recipients of the fiscal year 2012 Scientific Achievement Awards (selected by the Science Board) will provide overviews of the activities for which the awards were given.

3. On page 6333, in the second column, in the Procedures section, the third sentence is changed to read as follows:

Procedures: Oral presentations from the public will be scheduled between approximately 3 p.m. and 3:30 p.m.

This notice is issued under the Federal Advisory Committee Act (5 U.S.C. app. 2) and 21 CFR part 14, relating to the advisory committees.

Dated: February 20, 2013.
Jill Hartzler Warner,
Acting Associate Commissioner for Special Medical Programs.

[FR Doc. 2013-04535 Filed 2-26-13; 8:45 am]

BILLING CODE 4160-01-P